COMMITTEE FOR PURCHASE FROM PEOPLE WHO ARE BLIND OR SEVERELY DISABLED

Procurement List; Proposed Additions

AGENCY: Committee for Purchase From People Who Are Blind or Severely Disabled.

ACTION: Proposed additions to the Procurement List.

SUMMARY: The Committee is proposing to add product(s) and service(s) to the Procurement List that will be furnished by nonprofit agencies employing persons who are blind or have other severe disabilities.

DATES: Comments must be received on or before: February 13, 2022.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities. The following product(s) and service(s) are proposed for addition to the Procurement List for production by the nonprofit agencies listed:

Product(s)

NSN(s)—Product Name(s):

MR 16550—Automatic Umbrella

MR 16551—Oversize Automatic Umbrella

MR 16552—Family Golf Umbrella

MR 16553—Children's Umbrella

MR 10813—Prep Bowl, 3 Piece, Includes Shipper 20813

MR 10817—Worklight, Includes Shipper 20817

MR 10820—Mushroom Saver, Includes Shipper 20820

MR 10822—Popcorn Saver, Includes Shipper 20822

MR 10823—Popcorn Saver, Includes Shipper 20822

MR 10818—Pig Out Car Go Container, Includes Shipper 20818

MR 10829—Container, Grapes To Go, Includes Shipper 20829

MR 10828—Container, Olive Keeper, Includes Shipper 20828

Designated Source of Supply: Winston-Salem Industries for the Blind, Inc., Winston-Salem, NC

Contracting Activity: Military Resale-Defense Commissary Agency

Distribution: C-List

Service(s)

Service Type: Custodial Service

Mandatory for: Federal Aviation Administration, Wilkes-Barre/Scranton International Airport Air Traffic Control Tower and Base Building, Dupont, PA

Designated Source of Supply: Allied Health Care Services, Taylor, PA

Contracting Activity: FEDERAL AVIATION ADMINISTRATION, 697DCK REGIONAL ACQUISITIONS SVCS

Michael R. Jurkowski,
Acting Director, Business Operations.

[FR Doc. 2022-00703 Filed 1-13-22; 8:45 am]

BILLING CODE 6353-01-P